DEPARTMENT OF HEALTH AND HUMAN SERVICES

National Institutes of Health

National Institute on Aging; Notice of Meeting

Pursuant to section 1009 of the Federal Advisory Committee Act, as amended, notice is hereby given of a meeting of the National Advisory Council on Aging.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Council on Aging.

Date: May 12-13, 2026.

Closed: May 12, 2026, 2:00 p.m. to 5:00 p.m.

Agenda: To review and evaluate grant applications.

Address: Natcher Building, Building 45, 45 Center Drive, Bethesda, MD 20892 (In Person Meeting).

Closed: May 13, 2026, 8:00 a.m. to 9:00 a.m.

Agenda: NIA IRP Review.

Address: Natcher Building, Building 45, 45 Center Drive, Bethesda, MD 20892 (In Person Meeting).

Open: May 13, 2026, 9:00 a.m. to 12:30 p.m.

Agenda: Call to Order and Director's Status Report; Council Business; Meeting Adjourned.

Address: Natcher Building, Building 45, 45 Center Drive, Bethesda, MD 20892 (In Person Meeting).

Contact Person: Kenneth Santora, Director, Office of Extramural Activities, National Institute on Aging, National Institutes of Health, Gateway Building, 7201 Wisconsin Avenue, Bethesda, MD 20814, (301) 496-9322, ksantora@nih.gov.

In the interest of security, NIH has procedures at https://security.nih.gov/visitors/Pages/visitor-campus-access.aspx for entrance into on-campus and off-campus facilities. All visitor vehicles, including taxicabs, hotel, and airport shuttles will be inspected before being allowed on campus. Visitors attending a meeting on campus or at an off-campus federal facility will be asked to show one form of identification (for example, a government-issued photo ID, driver's license, or passport) and to state the purpose of their visit.

Information is also available on the Institute's/Center's home page: www.nia.nih.gov/about/naca, where an agenda and any additional information for the meeting will be posted when available.

(Catalogue of Federal Domestic Assistance Program Nos. 93.866, Aging Research, National Institutes of Health, HHS)

Dated: December 8, 2025.
Margaret Vardanian,
Program Analyst, Office of Federal Advisory Committee Policy.

[FR Doc. 2025-22458 Filed 12-9-25; 8:45 am]

BILLING CODE 4140-01-P